NATIONAL COMMISSION ON LIBRARIES AND INFORMATION SCIENCE

Notice of Meeting

AGENCY: U. S. National Commission on Libraries and Information Science.

ACTION: Notice of meeting.

SUMMARY: The U.S. National Commission on Libraries and Information Science is holding an open business meeting to discuss Commission programs and administrative matters. Commissioners will review programs related to the Commission's strategic initiatives chosen at the last NCLIS meeting. Progress reports from each of the Commission's task forces will be shared, and the Commission will discuss future directions and activities.

DATE AND TIME: NCLIS Business Meeting—January 15, 2005, 12:30 p.m. until 5 p.m.

ADDRESSES: Boston Public Library, McKim Building, 700 Boylston Street, Boston, MA 02116.

Status: Open meeting.

SUPPLEMENTARY INFORMATION: The business meeting is open to the public, subject to space availability. To make special arrangements for physically challenged persons, contact Madeleine McCain, Director of Operations, 1110 Vermont Avenue, NW., Suite 820, Washington, DC 20005, e-mail mmccain@nclis.gov, fax 202-606-9203 or telephone 202-606-9200.

Dated: December 22, 2004.
Trudi Bellardo Hahn,
Interim Executive Director.

[FR Doc. 04-28507 Filed 12-28-04; 8:45 am]

BILLING CODE 7528-01-P